SECURITIES AND EXCHANGE COMMISSION

Sunshine Act Meeting

Notice is hereby given, pursuant to the provisions of the Government in the Sunshine Act, Public Law 94-409, that the Securities and Exchange Commission Investor Advisory Committee will hold a meeting on Thursday, October 9, 2014, in Multi-Purpose Room LL-006 at the Commission's headquarters, 100 F Street NE., Washington, DC. The meeting will begin at 10:00 a.m. (ET) and will be open to the public. Seating will be on a first-come, first-served basis. Doors will open at 9:30 a.m. Visitors will be subject to security checks. The meeting will be webcast on the Commission's Web site at www.sec.gov.

On September 17, 2014, the Commission issued notice of the Committee meeting (Release No. 33-9647), indicating that the meeting is open to the public (except during portions of the meeting reserved for meetings of the Committee's subcommittees), and inviting the public to submit written comments to the Committee. This Sunshine Act notice is being issued because a quorum of the Commission may attend the meeting. It was determined that no earlier notice thereof was possible.

The agenda for the meeting includes: Remarks from Commissioners; a discussion of a recommendation of the Investor as Purchaser subcommittee and Investor Education subcommittee on the definition of accredited investor; a discussion of a recommendation of the Investor as Owner subcommittee on impartiality in the disclosure of preliminary voting results; an update on possible recommendations of the Market Structure subcommittee on the settlement cycle; a briefing by Commission staff on municipal finance bond market transparency; a discussion of issuer adoption of fee-shifting bylaws for intra-corporate litigation; and nonpublic subcommittee meetings.

For further information, please contact the Office of the Secretary at (202) 551-5400.

Dated: October 3, 2014.
Kevin M. O'Neill,
Deputy Secretary.

[FR Doc. 2014-23990 Filed 10-3-14; 11:15 am]

BILLING CODE 8011-01-P